DEPARTMENT OF AGRICULTURE

Animal and Plant Health Inspection Service

[Docket No. 02-027-1]

Notice of Request for Approval of an Information Collection

AGENCY: Animal and Plant Health Inspection Service, USDA.

ACTION: New information collection; comment request.

SUMMARY: In accordance with the Paperwork Reduction Act of 1995, this notice announces the Animal and Plant Health Inspection Service's intention to initiate a new information collection activity to support the National Animal Health Monitoring System's national Dairy 2002 study.

DATES: We will consider all comments we receive that are postmarked, delivered, or e-mailed by July 15, 2002.

ADDRESSES: You may submit comments by postal mail/commercial delivery or by e-mail. If you use postal mail/commercial delivery, please send four copies of your comment (an original and three copies) to: Docket No. 02-027-1, Regulatory Analysis and Development, PPD, APHIS, Station 3C71, 4700 River Road Unit 118, Riverdale, MD 20737-1238. Please state that your comment refers to Docket No. 02-027-1. If you use e-mail, address your comment to regulations@aphis.usda.gov. Your comment must be contained in the body of your message; do not send attached files. Please include your name and address in your message and “Docket No. 02-027-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the national Dairy 2002 study, contact Ms. Marj Swanson, Administrative Officer, Centers for Epidemiology and Animal Health, VS, APHIS, 555 S. Howes, Fort Collins, CO 80521; (970) 490-7978. For copies of more detailed information on the information collection, contact Mrs. Celeste Sickles, APHIS' Information Collection Coordinator, at (301) 734-7477.

SUPPLEMENTARY INFORMATION: Title: National Animal Health Monitoring System, Dairy 2002.

OMB Number: 0579-XXXX.

Type of Request: Approval of a new information collection.

Abstract: The United States Department of Agriculture is responsible for protecting the health of our Nation's livestock and poultry populations by preventing the introduction and interstate spread of contagious, infectious, or communicable diseases of livestock and poultry and for eradicating such diseases from the United States when feasible. In connection with this mission, the Animal and Plant Health Inspection Service (APHIS) operates the National Animal Health Monitoring System (NAHMS), which collects, on a national basis, statistically valid and scientifically sound data on the prevalence and economic importance of livestock and poultry diseases. Information from the studies conducted by NAHMS is disseminated to and used by livestock and poultry producers, consumers, animal health officials, private veterinary practitioners, animal industry groups, policymakers, public health officials, media, educational institutions, and others to improve the productivity and competitiveness of U.S. agriculture.

NAHMS' national studies have evolved into a collaborative industry and government initiative to help improve product quality and to determine the most effective means of producing animal and poultry products. APHIS is the only agency responsible for collecting national data on animal and poultry health. Participation in any NAHMS study is voluntary, and all data are confidential.

NAHMS will initiate a national study titled Dairy 2002. NAHMS personnel completed a needs assessment, which was a collaborative effort with producers, industry, extension specialists, Federal and State personnel, and university researchers. The information gathered through the collaborative needs assessment was used to determine the objectives of the study, i.e.: (1) Evaluating education efforts to explain changes in dairy producers' knowledge of Johne's disease since the Dairy '96 study, to assess management strategies used to prevent Johne's disease, including their associated costs, and to determine the level of producer participation in Johne's disease control or herd certification programs; (2) determining the change in prevalence of fecal shedding in food safety pathogens from Dairy '96 to Dairy 2002, evaluating management factors influencing bulk tank milk pathogens, and estimating the prevalence of Mycoplasma spp. in bulk tank milk; (3) describing dairy producers' knowledge of foreign animal diseases, reporting procedures, and expected responses in the event of a foot-and-mouth disease outbreak in the United States (data collected will be used to address industry concerns about foreign animal disease detection and control in the United States); (4) describing biosecurity operating procedures or plans implemented on U.S. dairy operations, as well as the producers' sources of biosecurity information; (5) describing animal waste handling systems used on U.S. dairy operations; and (6) describing animal identification types and frequency of use on U.S. dairy operations and incentives required by producers to increase or improve use of animal identification.

We are asking the Office of Management and Budget (OMB) to approve the information collection activity for the national Dairy 2002 study.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.79476502 hours per response.

Respondents: Corporate and independent producers, private veterinary practitioners, and State veterinary medical officers.

Estimated annual number of respondents: 8,405.

Estimated annual number of responses per respondent: 1.

Estimated annual number of responses: 8,405.

Estimated total annual burden on respondents: 6,680 hours. (Due to averaging, the total annual burden hours may not equal the product of the annual number of responses multiplied by the reporting burden per response.)

All responses to this notice will be summarized and included in the request for OMB approval. All comments will also become a matter of public record.

Done in Washington, DC, this 10th day of May, 2002.
Peter Fernandez,
Acting Administrator, Animal and Plant Health Inspection Service.

[FR Doc. 02-12249 Filed 5-15-02; 8:45 am]

BILLING CODE 3410-34-P